DEPARTMENT OF JUSTICE

[OMB Number 1125-0002]

Agency Information Collection Activities; Proposed Collection eComments Requested; Revision and Extension of a Previously Approved Collection; Notice of Appeal From a Decision of an Immigration Judge (Form EOIR-26); Correction

AGENCY: Executive Office for Immigration Review, Department of Justice.

ACTION: 60-Day notice; correction.

SUMMARY: The Executive Office for Immigration Review (EOIR) at the Department of Justice (DOJ) published a document in the Federal Register on July 1, 2025, at 90 FR 28815, requesting comments and suggestions from the public and affected agencies concerning a proposed collection of information. This document proposes one additional change to the information collection instrument, and EOIR will be submitting the following information collection request to the Office of Management and Budget (OMB) for review and approval in accordance with the Paperwork Reduction Act of 1995.

DATES: The comment period closing date for the proposed information collection published July 1, 2025, at 90 FR 28815, remains September 2, 2025.

FOR FURTHER INFORMATION CONTACT: If you have additional comments especially on the estimated public burden or associated response time, suggestions, or need a copy of the proposed information collection instrument with instructions or additional information, please contact Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION:

Corrections

In the Federal Register on July 1, 2025, in FR Doc. 2025-12197, on page 28816, in the second column, in the Supplementary Information, “Abstract,” section, revise the sixth sentence to read:

Changes were made to clarify filing instructions for paper and electronic submissions, including filing fee changes enacted under the One Big Beautiful Bill Act (“OBBBA”) (H.R. 1), signed into law on July 4, 2025.

In the Federal Register on July 1, 2025, in FR Doc. 2025-12197, on page 28816, in the “Overview of This Information Collection,” “7. An estimate of the total annual cost burden associated with the collection, if applicable,” section, revise this section to read:

7. An estimate of the total annual cost burden associated with the collection, if applicable: The total estimated annual public cost is $12,747,978. Of the total number of responses received annually, 12,487 responses are submitted by mail or hand delivery from respondents/applicants subject to the $1,010 filing fee requirement and 647 responses are submitted by mail or hand delivery from DHS ICE representatives exempted from the $1,010 filing fee requirement.

Cost | Individual | DHS ICE
Printing | $0.80 per response | $0.80 per response.
Postage | $10.10 per response | $10.10 per response.
Filing Fee | $1,010 per response | $0 per response.
Total Per Response | $1,020.90 | $10.90.
Total for All Paper Responses Filed | $1020.90 × 12,487 = $12,747,978 | $10.90 × 647 = $7,052.

Dated: July 21, 2025
Darwin Arceo,
Department Clearance Officer for PRA, U.S. Department of Justice.

[FR Doc. 2025-13832 Filed 7-22-25; 8:45 am]

BILLING CODE 4410-30-P